COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

SUMMARY: The Committee for the Implementation of Textile Agreements (“CITA”) has determined that certain nylon dobby weave fabric, as specified below, is not available in commercial quantities in a timely manner in the CAFTA-DR countries. The product is added to the list in Annex 3.25 of the CAFTA-DR in unrestricted quantities.

DATES: Applicable Date: February 6, 2024.

FOR FURTHER INFORMATION CONTACT: Kayla Johnson, Office of Textiles and Apparel, U.S. Department of Commerce, (202) 482-2532 or Kayla.Johnson@trade.gov.

For Further Information Online: https://otexaprod.trade.gov/otexacapublicsite/requests/cafta under “Approved Requests,” File Number: CA2023002.

SUPPLEMENTARY INFORMATION:

Authority: The CAFTA-DR; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's Procedures”).

On December 27, 2023, CITA received a Commercial Availability Request (“Request”) from The Powers Manufacturing Company d/b/a Powers Athletic (“Powers Athletic”) for certain nylon dobby weave fabric, as specified below. On December 29, 2023, in accordance with CITA's Procedures, CITA notified interested parties of the Request, which was posted on the dedicated website for CAFTA-DR Commercial Availability proceedings. In its notification, CITA advised that any Response with an Offer to Supply (“Response”) must be submitted by January 11, 2024, and any Rebuttal to a Response (“Rebuttal”) must be submitted by January 18, 2024, in accordance with sections 6 and 7 of CITA's Procedures. No interested entity submitted a Response to the Request advising CITA of its objection to the Request with an offer to supply the subject product.

In accordance with section 203(o)(4)(C) of the CAFTA-DR Implementation Act, and section 8(c)(2) of CITA's Procedures, as no interested entity submitted a Response objecting to the Request and providing an offer to supply the subject product, CITA has determined to add the specified fabric to the list in Annex 3.25 of the CAFTA-DR.

The subject product has been added to the list in Annex 3.25 of the CAFTA-DR Agreement in unrestricted quantities. A revised list has been posted on the dedicated website for CAFTA-DR Commercial Availability proceedings, at https://otexaprod.trade.gov/otexacapublicsite/shortsupply/cafta.

Specifications: Certain Nylon Dobby Weave Fabric

HTS: 5407.43.2030 and .2060 (weight more than 170 g/m2)

Fabric Type: Dobby Weave on a Triple Beam Air Jet Loom.

Fiber Content: 100% Nylon

Yarn Size:

Warp Yarn 1: 160Denier/96Filament

Warp Yarn 2: 166D/68F Cordura (Nylon 6.6)

Warp Yarn 3: 30D monofilament

Filling Yarn 1: 70D/48F

Filling Yarn 2: 160D/96F

Filling Yarn 3: 30D monofilament + 166D/68F Cordura (Nylon 6.6)

Note: The yarn size designations describe a range of specifications for yarn in its greige condition. They are intended as specifications to be followed by the mill in sourcing yarn to produce the fabric. Weaving, dyeing, and finishing can alter the characteristic of the yarn as it appears in the finished fabric. This specification therefore includes yarns appearing in the finished fabric as finer or coarser than the designated yarn sizes, provided that the variation occurs after processing of the greige yarn and production of the fabric. Such processing may alter the measurements.

Thread Count:

Metric: Various

English: Various

Weight: 136.4-173.6 grams per sq. meter

Finished Density (ends/cm x picks/cm): 43-44 x 63-64

Face Side (Technical Face or Back): Technical Side

Width:

Metric: 134.6 to 149.9 cm, 142.2 cuttable

English: 53-59 inches, 56 cuttable

Dye Type: Yarn Dye of Various Color

Jennifer Knight,
Chairman, Committee for the Implementation of Textile Agreements.

[FR Doc. 2024-02399 Filed 2-5-24; 8:45 am]

BILLING CODE 3510-DR-P